DEPARTMENT OF VETERANS AFFAIRS

48 CFR Part 870

RIN 2900-AP81

VA Acquisition Regulation: Describing Agency Needs; Contract Financing; Correction

AGENCY: Department of Veterans Affairs.

ACTION: Final rule; correction.

SUMMARY: The Department of Veterans Affairs is correcting a final rule that published in the Federal Register on October 1, 2018 amending and updating its VA Acquisition Regulation (VAAR). Two instructions in the rule are unneeded and are being removed.

DATES: The correction is effective October 31, 2018.

FOR FURTHER INFORMATION CONTACT: Mr. Rafael N. Taylor, Senior Procurement Analyst, Procurement Policy and Warrant Management Services, 003A2A, 425 I Street NW, Washington, DC 20001, (202) 382-2787. (This is not a toll-free number.)

SUPPLEMENTARY INFORMATION: On September 24, 2018, at 83 FR 48257, VA published a final rule (AQ04) that removes part 870 as the guidance included therein was either moved to other parts, out of date, or duplicative of the FAR. That rule (AQ04) is effective on October 24, 2018, however on October 1, 2018 at 83 FR 49302 VA published a final rule (AP81) with instructions to revise the authority citation for part 870 and remove §§ 870.112 and 870.113 with an effective date of October 31, 2018.

With this document, VA is removing the unneeded instructions amending part 870 in the final rule (AP81) published on October 1, 2018 (83 FR 49302).

Correction

In FR Doc. 2018-18984, appearing on page 49302 in the Federal Register of October 1, 2018, the following correction is made:

PART 870—[CORRECTED]

1. On page 49311, in the third column, under part 870, remove instructions 37 and 38.

Dated: October 23, 2018.
Consuela Benjamin,
Regulations Development Coordinator, Office of Regulation Policy & Management, Office of the Secretary, Department of Veterans Affairs.

[FR Doc. 2018-23420 Filed 10-25-18; 8:45 am]

BILLING CODE 8320-01-P